DEPARTMENT OF HOUSING AND URBAN DEVELOPMENT

[Docket No. FR-5753-N-01]

60-Day Notice of Proposed Information Collection: State Community Development Block Program

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 24, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the forms or other available information. Persons with hearing or speech impairments may access this number through TTY by calling the toll-free Federal Relay Service at (800) 877-8339.

FOR FURTHER INFORMATION CONTACT: Eva Fontheim, Office of Block Grant Assistance, Department of Housing and Urban Development, 451 7th Street, SW., Washington, DC 20410; email, Eva.C.Fontheim@hud.gov or telephone 202-402-3461 for copies of forms and documents.

SUPPLEMENTARY INFORMATION: This notice informs the public that HUD is seeking approval from OMB for the information collection described in Section A.

A. Overview of Information Collection

Title of Information Collection: State Community Development Block Grant (CDBG) Program.

OMB Approval Number: 2506-0085.

Type of Request: Extension of a currently approved collection.

Form Number: HUD-40108.

Description of the need for the information and proposed use: The Housing and Community Development Act of 1974, as amended (HCDA), requires grant recipients that receive CDBG funding to retain records necessary to document compliance with statutory and regulatory requirements on an on-going basis. Grantees must also submit an annual performance and evaluation report to demonstrate progress that it has made in carrying out its consolidated plan, and such records as may be necessary to facilitate review and audit by HUD of the grantee's administration of CDBG funds [Section 104(e)]. The statute also requires [Section 104(e)(2)] that HUD conduct an annual review to determine whether states have distributed funds to units of general local government in a timely manner.

Respondents (i.e. affected public): This information collection applies to 50 State CDBG Grantees (49 states and Puerto Rico but not Hawaii).

Estimated Number of Respondents: 50.

Estimated Number of Responses: 50.

Frequency of Response: The frequency of the response to the collection of information is annual at 1.5 hour per response with a total of 75 hours reporting burden. The record keeping burden for program compliance is already included under the currently approved information collection. The estimate of the annual reporting and recordkeeping is 112,180 hours for 50 grant recipients.

Total Estimated Burdens: 112,180.

Note: Preparer of this notice may substitute the chart for everything beginning with estimated number of respondents above:

Information collection | Number of respondents | Frequency of response | Responses per annum | Burden hour per response | Annual Burden Hours | Hourly cost per response | Annual cost
PER | 50 | 1 | 1 | 237 | 11,850
Recordkeeping: |  | On-going | On-going | 8,800
States Localities | 50 |  |  | 176 | 91,456
Localities | 3,500 |  |  | 26.13
Timely Distribution Form: | 50 | 1 | 1 | 1.5 | 75
Total |  |  |  |  | 112,180

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: January 14, 2014.
Mark Johnston,
Deputy Assistant Secretary for Special Needs.

[FR Doc. 2014-01328 Filed 1-22-14; 8:45 am]

BILLING CODE 4210-67-P